DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Emergency Management Institute Residential Course Evaluation Form.

OMB Number: 1660-0034.

Abstract: Students attending the Emergency Management Institute resident program courses at FEMA's NETC will be asked to complete a course evaluation form. The information will be used by EMI staff and management to identify problems with course materials, evaluate the quality of the course delivery, facilities, and instructors. The data received will enable them to recommend changes in course materials, student selection criteria, training experience and classroom environment.

Affected Public: State, Local, or Tribal Government, Federal Government, Individuals and Households.

Number of Respondents: 10,027.

Estimated Time per Respondent: 10 minutes.

Estimated Total Annual Burden Hours: 1,671 hours.

Frequency of Response: Per course.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before March 3, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: January 25, 2006.
George S. Trotter,
Acting, Branch Chief, Information Resources Management Branch, Information Technology Services Division.

[FR Doc. E6-1328 Filed 1-31-06; 8:45 am]

BILLING CODE 9110-10-P